DEPARTMENT OF HOMELAND SECURITY

Federal Emergency Management Agency

[Docket ID: FEMA-2017-0030; OMB No. 1660-0142]

Agency Information Collection Activities: Proposed Collection; Comment Request; Survivor Sheltering Assessment

AGENCY: Federal Emergency Management Agency, DHS.

ACTION: Notice and request for comments.

SUMMARY: The Federal Emergency Management Agency, as part of its continuing effort to reduce paperwork and respondent burden, invites the general public and other Federal agencies to take this opportunity to comment on a Survivor Sheltering Assessment extension, with change, of a currently approved information collection. In accordance with the Paperwork Reduction Act of 1995, this notice seeks comments concerning FEMA collecting information regarding the housing needs of individuals and families in shelters so that services and assistance can be provided to transition them out of shelters and into temporary housing solutions, as quickly as possible.

DATES: Comments must be submitted on or before January 22, 2018.

ADDRESSES: To avoid duplicate submissions to the docket, please use only one of the following means to submit comments:

(1) Online. Submit comments at www.regulations.gov under Docket ID FEMA-2017-0030. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Leah Davis, Program Manager, Disaster Management Support Environment, Recovery Technology Programs Division, 540-686-3227. You may contact the Records Management Division for copies of the proposed collection of information at email address: FEMA-Information-Collections-Management@fema.dhs.gov.

SUPPLEMENTARY INFORMATION: The Robert T. Stafford Disaster Relief and Emergency Assistance Act, Public Law 93-288, as amended, is the legal basis for FEMA to provide financial assistance and services to individuals who apply for disaster assistance benefits in the event of a federally-declared disaster. 44 CFR 206.110 implements the policy and procedures set forth in section 408 of the Robert T. Stafford Disaster Relief and Emergency Assistance Act, 42 U.S.C. 5174, as amended by the Disaster Mitigation Act of 2000. This program provides financial assistance and, if necessary, direct assistance to eligible individuals and households who, as a direct result of a major disaster or emergency, have uninsured or under-insured necessary expenses and serious needs and are unable to meet such expenses or needs through other means. Individuals and households that apply for this assistance must provide information detailing their losses and need.

FEMA requires the ability to collect information regarding the housing needs of survivors in shelters to provide services and assistance to transition them out of shelters and into temporary housing solutions as quickly as possible. Survivor-specific data collected in the shelters would be compared to survivor registration data to determine:

• Has the survivor in the shelter registered for FEMA assistance?

• If registered, what is the status of the survivor's registration? Do they have resources such as Transitional Sheltering Assistance (TSA) eligibility or financial rental assistance, available to them?

• If registered and not eligible for FEMA assistance, is there casework that could be performed to find eligibility?

• If not registered, information would be provided to the Joint Field Office (JFO) to have a registration strike team travel to the shelter and register the survivor.

Aggregated reports resulting from the individualized data collection will support JFO planning activities for shelter depopulation to ensure that survivors are transitioned as quickly as possible to housing solutions that best meet their need.

Collection of Information

Title: Survivor Sheltering Assessment.

Type of Information Collection: Currently approved information collection with change.

OMB Number: OMB No. 1660-0142.

FEMA Form(s): FEMA Form 09-0-42, Survivor Sheltering Assessment.

Abstract: When a Presidential federally declared disaster or emergency occurs, impacted survivors often find themselves temporarily housed in shelters until they are able to return to their homes or find other housing solutions while they recovery. A FEMA employee will interview individual survivors located in shelters regarding the registration status and housing situation using an electronic copy of FEMA Form 009-0-42 Survivor Sheltering Assessment to record the information in the Disaster Management Support Environment Cloud Environment (DMSE CE) database. The purpose of this survey is to help FEMA understand how best it can support survivors as they transition out of temporary shelters. No information given will be used to determine eligibility for assistance. Eligibility for assistance will only be determined through the separate registration process.

Affected Public: Individuals and Households.

Estimated Number of Respondents: 31,200.

Estimated Number of Responses: 31,200.

Estimated Total Annual Burden Hours: 5,201.

Estimated Total Annual Respondent Cost: $181,203.

Estimated Respondents' Operation and Maintenance Costs: None.

Estimated Respondents' Capital and Start-Up Costs: None.

Estimated Total Annual Cost to the Federal Government: $273,356.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: November 15, 2017.
Tammi Hines,
Records Management Program Chief, Mission Support, Federal Emergency Management Agency, Department of Homeland Security.

[FR Doc. 2017-25315 Filed 11-21-17; 8:45 am]

BILLING CODE 9111-23-P